DEPARTMENT OF THE INTERIOR

National Park Service

[NPS-WASO-NAGPRA-NPS0038304; PPWOCRADN0-PCU00RP14.R50000]

Notice of Inventory Completion: University of Tennessee, Department of Anthropology, Knoxville, TN

AGENCY: National Park Service, Interior.

ACTION: Notice.

SUMMARY: In accordance with the Native American Graves Protection and Repatriation Act (NAGPRA), the University of Tennessee, Department of Anthropology (UTK) has completed an inventory of human remains and associated funerary objects and has determined that there is a cultural affiliation between the human remains and associated funerary objects and Indian Tribes or Native Hawaiian organizations in this notice.

DATES: Repatriation of the human remains and associated funerary objects in this notice may occur on or after August 19, 2024.

ADDRESSES: Dr. Ellen Lofaro, University of Tennessee, Office of Repatriation, 5723 Middlebrook Pike, Knoxville, TN 37921-6053, telephone (865) 974-3370, email nagpra@utk.edu.

SUPPLEMENTARY INFORMATION: This notice is published as part of the National Park Service's administrative responsibilities under NAGPRA. The determinations in this notice are the sole responsibility of UTK, and additional information on the determinations in this notice, including the results of consultation, can be found in its inventory or related records. The National Park Service is not responsible for the determinations in this notice.

Abstract of Information Available

Human remains representing, at least six individuals have been identified. The two associated funerary objects are one lot of ceramics and one lot of faunal remains. In February 2009, students from the Mars Hill Bible School in Florence, Lauderdale County, Alabama found remains while out around a bluff, and later found additional remains while they were looking in the same area. After the students removed the remains and took them to class, the Sherriff's Department was contacted to take possession of them. An investigator from the department sent the remains to Dr. Lee Jantz at UTK for examination. These remains were retained by the UTK Forensic Anthropology Center (FAC) as case 09-02. They were housed by the FAC until they were recently transferred to the UTK Office of Repatriation (OR). Some of the remains were “repaired” using an unknown, thick foam-like adhesive material.

Human remains representing, at least two individuals have been identified. No associated funerary objects are present. A scout leader found the remains in a cave in Franklin County, Tennessee, and alerted law enforcement officials. A police officer received the remains from the scout leader on September 20, 1997. The officer transferred them to the Franklin County Sherriff's Department two days later. A captain from the department contacted Dr. William Bass at UTK for assistance in determining if the remains were of medicolegal concern. The remains were transferred to UTK on September 26, 1997, and examined by Michelle Hamilton. Once determined to be of Native American origin, the remains were retained by the FAC as case 97-28. They remained at the FAC until they were recently transferred to the OR. To our knowledge, the remains were not treated with any potentially hazardous substances.

Human remains representing, at least one individual have been identified. The one associated funerary object is one lot of faunal remains. At an unknown time, these remains were removed by an unknown party, from a cave in Franklin County, TN. On August 9, 2012, the remains were given to an investigator with the county Sherriff's Department. The investigator transferred them to a Tennessee Bureau of Investigation (TBI) Special Agent, who contacted Dr. Lee Meadows Jantz at UTK to have them examined. The remains were retained by the FAC as case 12-07. They remained at the FAC until they were recently transferred to the OR. To our knowledge, no potentially hazardous substances were used to treat any of the remains or objects.

Human remains representing, at least two individuals have been identified. No associated funerary objects are present. Cavers discovered the remains while exploring with a group of children in Grundy County, TN, on February 13, 1995, and alerted law enforcement officials. That same day, a TBI agent contacted Dr. Murray Marks at the FAC for his assistance, and a team of graduate students were sent to the site to investigate further. Once the examination of the remains was complete, they were determined to be Native American, and they were retained by the FAC as case 95-9. They remained at the FAC until they were recently transferred to the OR. Some of the remains were “repaired” using glue, but to our knowledge, no potentially hazardous substances were used to treat any of the remains.

Human remains representing, at least one individual have been identified. No associated funerary objects are present. On Saturday, January 7, 2006, a resident of Pelham, TN, was digging for projectile points when he found human remains below the surface. He removed them and took them to Grundy County law enforcement officials. On January 10, the remains were transferred to a TBI Special Agent, who subsequently sent them to UTK for examination, where they were received on February 26. After the remains were examined and determined not to be of medicolegal concern (not a missing person or crime victim), they were retained by the FAC as case 06-06. They remained at the FAC until they were recently transferred to the OR. To our knowledge, no potentially hazardous substances were used to treat any of the remains.

Human remains representing, at least two individuals have been identified. No associated funerary objects are present. The remains were found in a cave in Lawrenceburg, Lawrence County, TN, by an unknown party in February 1981, and local law enforcement officials were informed. A TBI agent contacted Bass for assistance in identifying the remains, and subsequently sent them to UTK where they were examined by Patrick Willey in March 1981. Once determined to be Native American and not of recent origin, the remains were retained by the FAC as case 81-8. They remained at the FAC until they were recently transferred to the OR. To our knowledge, no potentially hazardous substances were used to treat any of the remains.

Human remains representing, at least two individuals have been identified. The four associated funerary objects are one lot of botanicals, one lot of faunal remains, one lot of lithics, and one lot of unidentified objects. At an unknown time, these remains and funerary objects were found by an unknown party in a cave in Lawrence County, TN. In January 1996, a TBI agent informed Bass of the discovery, and the remains were sent to Bass at UTK for examination, which was completed on February 8, 1996. Once determined not to be of recent origin, the remains were retained by the FAC as case 96-04. They remained at the FAC until they were recently transferred to the OR. To our knowledge, no potentially hazardous substances were used to treat any of the remains or objects.

Lauderdale County, Alabama, and Franklin, Grundy, and Lawrence Counties, Tennessee, are part of the aboriginal Homeland of the Chickasaw people, as documented in the Treaties with the United States and Chickasaw of 1805, 1816, and 1818. These counties are also part of the aboriginal Homeland of the Cherokee, as documented in Treaties with the Cherokee, 1806, 1807, and 1819.

Cultural Affiliation

Based on the information available and the results of consultation, cultural affiliation is reasonably identified by the geographical location or acquisition history of the human remains and associated funerary objects described in this notice.

Determinations

UTK has determined that:

• The human remains described in this notice represent the physical remains of 16 individuals of Native American ancestry.

• The seven objects described in this notice are reasonably believed to have been placed intentionally with or near individual human remains at the time of death or later as part of the death rite or ceremony.

• There is a connection between the human remains and associated funerary objects described in this notice and the Cherokee Nation; Eastern Band of Cherokee Indians; The Chickasaw Nation; and the United Keetoowah Band of Cherokee Indians in Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after August 19, 2024. If competing requests for repatriation are received, UTK must determine the most appropriate requestor prior to repatriation. Requests for joint repatriation of the human remains and associated funerary objects are considered a single request and not competing requests. UTK is responsible for sending a copy of this notice to the Indian Tribes and Native Hawaiian organizations identified in this notice.

Authority: Native American Graves Protection and Repatriation Act, 25 U.S.C. 3003, and the implementing regulations, 43 CFR 10.10.

Dated: July 10, 2024.
Melanie O'Brien,
Manager, National NAGPRA Program.

[FR Doc. 2024-15832 Filed 7-17-24; 8:45 am]

BILLING CODE 4312-52-P